GENERAL SERVICES ADMINISTRATION

[Notice-PBS-2024-16; Docket No. 2024-0002; Sequence No. 50]

Notice of Availability of a Draft Environmental Impact Statement for a New Federal Courthouse in Hartford, Connecticut

AGENCY: New England Region, Public Buildings Service (PBS), U.S. General Services Administration (GSA).

ACTION: Notice of availability, announcement of public hearing.

SUMMARY: Pursuant to the requirements of the National Environmental Policy Act of 1969 (NEPA), GSA has prepared a Draft Environmental Impact Statement (EIS) to analyze the potential impacts from the proposed acquisition of a site in Hartford, CT, and the subsequent design, construction, and operation of a new Federal courthouse. The new courthouse would be owned and managed by GSA and occupied by the U.S. District Court for the District of Connecticut and related agencies. This notice announces the opportunity for public review and comment on the Draft EIS. The Draft EIS describes the purpose and need for the proposed project, the alternatives considered, the existing environment that could be affected, the potential impacts resulting from each of the alternatives, and proposed best management practices and mitigation measures.

DATES: Interested parties are encouraged to participate in the public hearing and provide comments on the Draft EIS. The public comment period begins with the publication of this Notice of Availability (NOA) in the Federal Register and will end on Monday, December 16, 2024. Comments must be postmarked or received by the last day of the public comment period (see ADDRESSES section of this NOA for how to submit comments).

Hearing Date—The public hearing will be held on Wednesday, November 13, 2024, at the Lyceum Center, Conference Center 1, 227 Lawrence Street, Hartford, CT 06106, and will take place from 6 p.m. to 8 p.m., eastern time. The public hearing will begin with a presentation that provides an overview of the NEPA process, the proposed project, and the findings of the Draft EIS. Following the presentation, there will be a moderated session during which members of the public will be able to provide comments verbally or in writing. An American Sign language interpreter and a Spanish language interpreter will be available. After the meeting, all presentation materials will be posted to GSA's project website.

ADDRESSES: The Draft EIS can be viewed or downloaded from the GSA project website at www.gsa.gov/hartfordcourthouse.

Hard copies are available for viewing at the following locations:

• Hartford Public Library, Albany Branch located at 1250 Albany Ave., Hartford, CT 06112

• Hartford Public Library, Park Street Branch located at 603 Park St., Hartford CT 06106

• Hartford City Hall located at 550 Main Street, Room 001, Hartford, CT 06103

Comments must be submitted to GSA by Monday, December 16, 2024, using one of the following methods:

• In-Person: Submit written comments at the public hearing via comment forms. There will be a stenographer to capture verbal comments at the hearing.

• Email: Send an email to HartfordCourthouse@gsa.gov and reference “Hartford Courthouse EIS” in the subject line.

• Mail: Written comments must be postmarked by Monday, December 16, 2024. Address all physical mail to: General Services Administration, Attention: Robert Herman, Project Manager, Abraham A. Ribicoff Federal Building and U.S. Courthouse, 450 Main Street, Suite 435, Hartford, CT 06103.

• Drop Box: Place written comments in the drop box at the main entrance of the Ribicoff Federal Building and Courthouse, which is located at 450 Main Street, Hartford, CT 06103.

Comments received or postmarked after the end of the comment period may not be considered by GSA. All comments received are part of the public record. All personal identifying information (e.g., name, address, etc.), confidential business information, or otherwise sensitive information submitted voluntarily by the sender will be publicly accessible. GSA will accept anonymous comments.

FOR FURTHER INFORMATION CONTACT: Robert Herman, Project Manager, General Services Administration at 413-244-9167 or HartfordCourthouse@gsa.gov.

SUPPLEMENTARY INFORMATION:

Background

The U.S. District Court for the District of Connecticut (the Court) currently operates at three facilities: the Richard C. Lee U.S. Courthouse in New Haven (its headquarters location), the Brien McMahon Federal Building and U.S. Courthouse in Bridgeport, and the Abraham A. Ribicoff Federal Building and Courthouse in Hartford (Ribicoff Federal Building and Courthouse).

The Ribicoff Federal Building and Courthouse, constructed in 1963, does not have the capacity to accommodate the Court's functions and operations. The facility is inadequate in size and configuration for the Court's operations, including deficiencies in judicial, juror, and detainee circulation and overall facility security. The Court's long-term facilities planning and GSA's feasibility studies concluded that relocating the Court's headquarters to Hartford would provide efficiencies in judicial operations across the State. The results from these studies led to GSA's proposal to locate the Court and related agencies at a new courthouse in Hartford.

Alternatives Under Consideration

GSA identified two “action” alternatives that met the stated purpose and need of the proposed project and have been analyzed in detail in the Draft EIS. The two “action” alternatives correspond to two sites in Hartford for the location of the new courthouse. Each “action” alternative would involve the site acquisition, design, construction, and operation of a new courthouse in Hartford.

The new courthouse building would be up to 281,000 gross square feet and contain 11 courtrooms, 18 judges chambers, offices for the Court and related agencies, and 66 secure, indoor parking spaces. The new courthouse would incorporate a sustainable, climate-resilient, and operationally efficient design to meet or exceed the energy and sustainability goals established by Federal guidelines and policies, along with industry standards, building codes, and best practices. The project would meet the present and long-term requirements of the Court. GSA analyzed two locations for the project, each corresponding to an “action” alternative (listed west to east):

• Alternative 1 (Woodland Site)—located at 61 Woodland Street and is 10.19 acres. The Woodland Site is in Hartford's Asylum Hill neighborhood, a block south of Saint Francis Hospital, and includes a portion of the North Branch Park River along its western boundary. It is bounded by Asylum Ave. to the north, the North Branch Park River to the west, healthcare-related buildings along its southern perimeter, and Woodland St. to the east. It is currently utilized as a State of Connecticut office building and has an ancillary building and a surface parking lot. Under Alternative 1, the existing buildings at the Woodland Site may be demolished or reused as part of the construction of the new courthouse. Construction would be limited to areas outside the floodplains. Approximately 2 acres of the site would be excavated and graded in preparation for construction. The new courthouse may contain up to two levels of underground secure parking only, surface-level secure parking only, or a combination of the two. A new landscape plan would be developed for the site with native plantings.

• Alternative 2 (Allyn Site)—located at 154 Allyn Street and is 2.19 acres. The property lies downtown, one block north of Bushnell Park, one block east of Union Station, and one block west of the XL Center. It is bounded by Church St. to the north, High St. to the west, Allyn St. to the south, and mixed-use buildings along its eastern perimeter. It is currently utilized as a surface parking lot. Under Alternative 2, a new courthouse would be constructed on the Allyn Site. Approximately 2 acres of the site would be excavated and graded in preparation for construction. The new courthouse would contain up to two levels of underground secure parking. A landscape plan would be developed for the site with native plantings.

GSA analyzed a “no action” alternative, which evaluated the effects if site acquisition and the subsequent design, construction, and operation of a new courthouse would not occur (i.e., the status quo). This alternative would not meet the purpose and need of the proposed project because the Ribicoff Federal Building and Courthouse does not have the capacity to accommodate the Court's functional, operational, and space requirements. Under the “no action” alternative, the Court would continue to operate across the State at its current facilities in Hartford, New Haven, and Bridgeport. The Court would not relocate its headquarters to Hartford.

Further information about the project can be viewed at: http://gsa.gov/hartfordcourthouse.

Jesse Lafreniere,
Director, Design and Construction Division, U.S. General Services Administration, PBS New England Region.

[FR Doc. 2024-25086 Filed 10-31-24; 8:45 am]

BILLING CODE 6820-RB-P